DEPARTMENT OF TRANSPORTATION

Federal Aviation Administration

Twenty-Seventh (27th) Joint Meeting, RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/EUROCAE Working Group 53: Air Traffic Services (ATS) Safety and Interoperability Requirements.

DATES: The meeting will be held June 20-23, 2006, starting at 9 a.m.

ADDRESSES: The meeting will be held at RTCA, Inc., 1828 L Street, NW., Suite 805, Washington, DC 20036-4001.

FOR FURTHER INFORMATION CONTACT: RTCA Secretariat (Hal Moses), 1828 L Street, NW., Suite 805, Washington, DC 20036, (202) 833-9339, fax (202) 833-9434; Web site http://www.rtca.org.Additional information on directions, maps, and nearby hotels may be found by accessing the RTCA Web site.

SUPPLEMENTARY INFORMATION: Pursuant to section 10(a)(2) of the Federal Advisory Committee Act (Pub. L. 92-463, 5 U.S.C., Appendix 2), notice is hereby given for a Special Committee 189/EUROCAE Working Group 53 meeting.

Meeting Objectives

• Resolve all comments and issues to complete the Safety and Performance Requirements Standard for Air Traffic Data Link Services in Oceanic and Remote Airspace by July 26, 2006 for final review and consultation.

• Resolve all comments and issues to complete the FANS 1/A-ATN Interoperability Standard by July 26, 2006 for final review and consultation.

• Agree on a work statement for SC-189/WG-53 that details work items and milestones.

The plenary agenda will include:

• June 20:

• Opening Plenary Session (Welcome, Introductions, and Administrative Remarks, Review and approval of Agenda and Meeting Minutes) Administrative.

• SC-189/WG-53 co-chair progress report and review of work program.

• Determine and agree to breakout groups if necessary.

• June 21-22:

• Breakout groups, as agreed, and plenary debriefs, as necessary.

• June 23:

• Debrief on progress for the week.

• Closing Plenary Session (Review schedule and new action items. Any other business, Adjourn).

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on May 3, 2006.
Francisco Estrada C.,
RTCA Advisory Committee.

[FR Doc. 06-4363 Filed 5-10-06; 8:45 am]

BILLING CODE 4910-13-M